DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 14, 2010 through June 18, 2010.

In order for an affirmative determination to be made for workers of a primary firm and a certification issued regarding eligibility to apply for worker adjustment assistance, each of the group eligibility requirements of section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W | Subject firm | Location | Impact date
72,811 | Holo-Krome, Former Subsidiary of Danaher Tool Group, Leased Workers of Randstad | West Hartford, CT | November 4, 2008.
72,839 | United States Metal Powders, Inc., Formerly, United States Bronze Powders, Leased Workers Theorem Corporation | Flemington, NJ | November 6, 2008.
73,648 | Gelita USA Inc., Leased Workers of Advance Services and Manpower | Sergeant Bluff, IA | March 3, 2009.
73,936 | ATI Wah Chang, Allegheny Technologies, Inc | Albany, OR | April 14, 2009.
73,942 | Total Lubricants USA, Inc., A Subsidiary of Elf Aquitaine, Inc | Rockingham, NC | April 9, 2009.

The following certifications have been issued. The requirements of Section 222(a)(2)(B) (shift in production or services) of the Trade Act have been met.

TA-W | Subject firm | Location | Impact date
71,551A | Freescale Semiconductor, Inc., Networking and Multimedia Group, Leased Workers of Synergy Services, etc | Austin, TX | July 1, 2008.
72,332 | Meritor Heavy Vehicle Systems, LLC, Commercial Vehicle Systems, ArvinMeritor, Leased Workers Pinnacle | Fletcher, NC | September 16, 2008.
72,487 | JP Morgan Chase and Company, Treasury and Securities Services, Automated Clearing House Operations | Belleville, MI | October 1, 2008.
72,615 | International Thermal Systems LLC, Leased Workers Argus, Faith Technologies, Products Services, etc | Milwaukee, WI | October 16, 2008.
73,178 | Alcatel-Lucent USA, Operations Division, Alcatel-Lucent | Raleigh, NC | December 10, 2008.
73,229 | Barnes Aerospace, Barnes Group, Inc.; Leased Workers from Diversified Design | West Chester, OH | January 5, 2009.
73,330 | Springs Global U.S., Inc., Leased Workers from Phillips Staffing and Aquent | Fort Mill, SC | January 20, 2009.
73,330A | Springs Global U.S., Inc., Leased Workers from 24 Seven, Inc | New York, NY | January 20, 2009.
73,330B | Springs Global U.S., Inc. | Bentonville, AR | January 20, 2009.
73,330C | Springs Global U.S., Inc. | Minneapolis, MN | January 20, 2009.
73,330D | Springs Global U.S., Inc. | Plano, TX | January 20, 2009.
73,402 | Springs Window Fashions, LLC, Springs Industries, Inc | Santa Ana, CA | February 1, 2009.
73,476 | Corning Cable Systems, Leased Workers from Adecco | Keller, TX | February 10, 2009.
73,529 | ACS Enterprise Solutions, Inc., Waite Park Branch, Affiliate Of Affiliated Computer Services, (aka AVS, Xerox Company) | Waite Park, MN | December 16, 2008.
73,790 | MeadWestvaco Corporation, Global Business Services, Leased Workers from Manpower, etc | Glen Allen, VA | March 19, 2009.
73,798 | CompuCredit Holdings Corporation, Formerly CompuCredit Corporation, Credit Cards-Collections Division | Wilkesboro, NC | March 25, 2009.
73,969 | Cummins, Inc., Cummins Components Fuel Systems Business Unit, Leased Workers of Volt, etc | El Paso, TX | April 19, 2009.
73,984 | Graphic Arts Center Publishing Company, Lincoln & Allen Division, Leased Workers of Hands On Demand, Inc | Portland, OR | April 21, 2009.
73,984A | Graphic Arts Center Publishing Company | Portland, OR | April 21, 2009.
73,985 | Graphic Arts Center Publishing Company, Haagen Print Division | Santa Barbara, CA | April 21, 2009.
73,994 | Lipper, Thomson Reuters Market, Leased Workers Job Store Staffing, etc | Denver, CO | April 23, 2009.
74,006 | CIGNA Healthcare, Inc., Customer Service Department, Leased Workers from Prounlimited | Fort Scott, KS | April 26, 2009.
74,013 | WellPoint, Inc., West Host Provider, Leased Workers from Kelly Services, etc | Denver, CO | April 27, 2009.
74,027 | UPS Supply Chain Solutions, United Parcel Service, Leased Workers Manpower, Spherion etc | Dunmore, PA | April 21, 2009.
74,060 | Ingersoll Rand, Hussman Corporation, Climate Solutions, Leased Workers from Procure Staff | Bridgeton, MO | April 5, 2009.
74,075 | Covance Research Products, Leased Workers from Aerotek and WSI | Kalamazoo, MI | May 11, 2009.
74,087 | IMS Health Incorporated, Shared Business Services Division, Leased Workers Kelly Services | Bethlehem, PA | May 13, 2009.
74,121 | Magna Modular Systems, AIM Systems-St. Louis, Magna International America | Dupo, IL | May 18, 2009.
74,155 | Atlas Copco, Secoroc, LLC, Leased Workers Express Employment Professionals | Roanoke, VA | May 24, 2009.
74,213 | Intel Corporation, Corporate Services, D2 Operations | Santa Clara, CA | July 8, 2010.
74,214 | Intel Corporation, California Technology and Manufacturing, D2 Operations | Santa Clara, CA | May 15, 2010.

The following certifications have been issued. The requirements of section 222(c) (supplier to a firm whose workers are certified eligible to apply for TAA) of the Trade Act have been met.

TA-W | Subject firm | Location | Impact date
72,481 | Fulton Manufacturing Industries, LLC | Brecksville, OH | October 2, 2008.
72,703 | Young Touchstone, Wabtec Corporation | Lexington, TN | October 27, 2008.
73,077 | Grupo Antolin, Grupo Antolin North America | Belvidere, IL | December 9, 2008.
73,598 | Biotech Industries, LLC | Newton, NC | February 28, 2009.
73,946 | Kirkhill-TA Co., Haskon Division; Esterline Technologies; Leased Workers from Spherion | Taunton, MA | April 15, 2009.
73,959 | RJR Transportation, Inc. | Lathrop, CA | March 22, 2009.
74,069 | Nestaway LLC, Subsidiary of Leggett and Platt | McKenzie, TN | May 7, 2009.

The following certifications have been issued. The requirements of section 222(c) (downstream producer for a firm whose workers are certified eligible to apply for TAA) of the Trade Act have been met.

TA-W | Subject firm | Location | Impact date
72,219 | USF Holland, Inc., A Subsidiary of YRC Worldwide, Inc. | Jackson, MI | September 3, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
73,751 | RHealth, LLC | Memphis, TN |

The investigation revealed that the criteria under paragraphs (a)(2)(A) (increased imports) and (a)(2)(B) (shift in production or services to a foreign country) of section 222 have not been met.

TA-W No. | Subject firm | Location | Impact date
72,018 | Smurfit-Stone Container Enterprises, Inc | Portland, CT |
72,037 | General Cable Industries, Inc., General Cable Corporation, Leased Workers Nesco Resources, etc | Lawrenceburg, KY |
72,239 | Runia Transportation, Inc. | Eugene, OR |
72,410 | DSC Window Fashions, Inc. | Portland, OR |
72,908 | Carolina Telephone and Telegraph Company LLC, Embarq Corporation; CenturyLink, New Bern Call Center | New Bern, NC |
72,916 | Dowell Schlumberger | Sonora, TX |
73,012 | Oldcastle Glass Engineered Products | Bloomsburg, PA |
73,436 | Rexam Healthcare Packaging, Inc. | Rossville, GA |
73,517 | USA Mobility Wireless, Inc., Key Account Manager (KAM) Group | Plano, TX |
73,560 | BCD Travel USA, LLC, Boise Siemens Unit | Boise, ID |
73,840 | Lochmoor Chrysler Jeep | Detroit, MI |
73,989 | United Auto Workers (UAW) Local 136 | Fenton, MO |
74,057 | Specialty Minerals, Inc. | Franklin, VA |

The investigation revealed that the criteria under paragraphs (b)(2) and (b)(3) (public agency acquisition of services from a foreign country) of section 222 have not been met.

TA-W No. | Subject firm | Location | Impact date
73,103 | Marine Corps Logistics Base | Barstow, CA |
74,116 | Washington Department of Transportation, Olympic Division, Aberdeen Maintenance, Chehalis Drawbridge Tenders | Aberdeen, WA |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
72,146 | Dassault Systemes Americas Corporation | Woodland Hills, CA |
73,177 | Century Aluminum of Kentucky, GP | Hawesville, KY |
73,825 | Steel Fabricators of Monroe, LLC | Monroe, LA |

The following determinations terminating investigations were issued in cases where these petitions were not filed in accordance with the requirements of 29 CFR 90.11. Every petition filed by workers must be signed by at least three individuals of the petitioning worker group. Petitioners separated more than one year prior to the date of the petition cannot be covered under a certification of a petition under section 223(b), and therefore, may not be part of a petitioning worker group. For one or more of these reasons, these petitions were deemed invalid.

TA-W No. | Subject firm | Location | Impact date
73,708 | Hayden Twist Drill | Warren, MI |

The following determinations terminating investigations were issued because the petitioning groups of workers are covered by active certifications. Consequently, further investigation in these cases would serve no purpose since the petitioning group of workers cannot be covered by more than one certification at a time.

TA-W No. | Subject firm | Location | Impact date
72,277 | Hickory White Upholstery | High Point, NC |
72,939 | Span America Inc. | Worcester, PA |
73,835 | Hartford Financial Services Group, Inc., Medical Bill Processing and Production Center Support | Syracuse, NY |

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W No. | Subject firm | Location | Impact date
72,947 | Supreme Foam, Inc. | Archdale, NC |

I hereby certify that the aforementioned determinations were issued during the period of June 14, 2010 through June 18, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: June 24, 2010.
Elliott S. Kushner,
Certifying Officer, Division of Trade Adjustment Assistance.

[FR Doc. 2010-16025 Filed 6-30-10; 8:45 am]

BILLING CODE 4510-FN-P S